DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker license are canceled without prejudice.

Name | License No. | Issuing port
UPS Customhouse Brokerage Inc. | 09555 | Cleveland.
Freight Brokers International Inc. | 03477 | New York.
Ameri-Can Customhouse Brokers Inc. | 10765 | Buffalo.
Capin Brokerage Inc. | 13016 | Nogales.
ADESA Importation Services Inc. | 21103 | Detroit.

Dated: February 13, 2004.
Jayson P. Ahern,
Assistant Commissioner, Office of Field Operations.

[FR Doc. 04-4012 Filed 2-23-04; 8:45 am]

BILLING CODE 4820-02-P